SECURITIES AND EXCHANGE COMMISSION

Sunshine Act Meeting

Notice is hereby given, pursuant to the provisions of the Government in the Sunshine Act, Public Law 94-409, that the Securities and Exchange Commission Equity Market Structure Advisory Committee will hold a telephonic meeting on Friday, July 8, 2016. The meeting will begin at 2:00 p.m. (ET) and will be open to the public via webcast on the Commission's Web site at www.sec.gov.

On June 10, 2016, the Commission published notice of the Committee meeting (Release No. 34-78040), indicating that the meeting is open to the public and inviting the public to submit written comments to the Committee. This Sunshine Act notice is being issued because a majority of the Commission may attend the meeting.

The agenda for the meeting includes presentations by the Regulation NMS and Trading Venues Regulation subcommittees and consideration of a recommendation for an access fee pilot and recommendations related to trading venues regulation.

For further information, please contact Brent J. Fields from the Office of the Secretary at (202) 551-5400.

Dated: June 30, 2016.
Brent J. Fields,
Secretary.

[FR Doc. 2016-16075 Filed 7-1-16; 11:15 am]

BILLING CODE 8011-01-P